ENVIRONMENTAL PROTECTION AGENCY

[EPA-HQ-OAR-2021-0119; FRL-12656-01-OMS]

Agency Information Collection Activities; Submission to the Office of Management and Budget for Review and Approval; Comment Request; NESHAP for Taconite Iron Ore (Renewal)

AGENCY: Environmental Protection Agency (EPA).

ACTION: Notice.

SUMMARY: The Environmental Protection Agency (EPA) has submitted an information collection request (ICR), NESHAP for Taconite Iron Ore Processing (EPA ICR Number 2050.11, OMB Control Number 2060-0538) to the Office of Management and Budget (OMB) for review and approval in accordance with the Paperwork Reduction Act. This is a proposed extension of the ICR, which is currently approved through February 28, 2025. Public comments were previously requested via the Federal Register on August 6, 2024 during a 60-day comment period. This notice allows for an additional 30 days for public comments.

DATES: Comments may be submitted on or before March 31, 2025.

ADDRESSES: Submit your comments, referencing Docket ID Number EPA-HQ-OAR-2021-0119, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through February 28, 2025. An agency may not conduct or sponsor and a person is not required to respond to a collection of information unless it displays a currently valid OMB control number.

Public comments were previously requested via the Federal Register on August 6, 2024 during a 60-day comment period (89 FR 63933). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The National Emission Standards for Hazardous Air Pollutants (NESHAP) for Taconite Iron Ore Processing was proposed on December 18, 2002, and promulgated on October 30, 2003, and most recently amended on March 6, 2024. The NESHAP is codified at 40 CFR part 63, subpart RRRRR. The regulations apply to existing facilities and new facilities that either emit or have the potential to emit any single hazardous air pollutant (HAP) at a rate of 9.07 megagrams (10 tons) or more per year or any combination of HAP at a rate of 22.68 megagrams (25 tons) or more per year from all emission sources at the plant site. Affected sources include each new or existing ore crushing and handling operation, ore dryer, indurating furnace, and finished pellet handling operation. The pollutants regulated include HAP metals, using particulate matter (PM) as a surrogate. New facilities include those that commenced construction or reconstruction after the date of the original proposal (December 18, 2002). This information is being collected to assure compliance with 40 CFR part 63, subpart RRRRR.

In general, all NESHAP require initial notifications, performance tests, and periodic reports by the owners/operators of the affected facilities. Owners/operators are also required to maintain records of the occurrence and duration of any failures to meet applicable standards, or any period during which the monitoring system is inoperative. In addition to the notifications, a semiannual report is also required. These notifications, reports, and records are essential in determining compliance, and are required of all sources subject to NESHAP.

Form Numbers: 5900-576.

Respondents/affected entities: Taconite iron ore processing facilities.

Respondent's obligation to respond: Mandatory (40 CFR 63, Subpart RRRRR).

Estimated number of respondents: 7 (total).

Frequency of response: Initially and semiannually.

Total estimated burden: 3,520 hours (per year). Burden is defined at 5 CFR 1320.03(b).

Total estimated cost: $19,100,000 (per year), which includes $18,600,000 annualized capital or operation & maintenance costs.

Changes in the estimates: There is an increase of 2,037 hours in the total estimated respondent burden compared with the ICR currently approved by OMB. This increase is not due to any program changes. The burden in this renewal is updated to reflect additional requirements from rule amendments, as well as the ongoing activities performed by existing sources after rule implementation. Additionally, we made a correction to the number of respondents per year performing Method 5 performance tests, consistent with the number of respondents estimated to provide notifications of performance tests and report performance test results. This ICR adjusts the number of respondents conducting performance tests in each year from 2.7 per year to 7 per year, which increases the annual burden by approximately 300 hours. There is an increase in the Capital/O&M costs because this renewal reflects the costs associated with the requirements from the 2023 rule amendments, which includes DSI operation and maintenance costs, and ACI/Venturi scrubber operation and maintenance costs. Additionally, we have included the non-labor performance test costs associated with testing contractors as capital costs rather than including them with industry costs as in previous ICR renewals.

Courtney Kerwin,
Director, Information Engagement Division.

[FR Doc. 2025-03343 Filed 2-27-25; 8:45 am]

BILLING CODE 6560-50-P